INTERNATIONAL TRADE COMMISSION

[Investigation Nos. 701-TA-611 and 731-TA-1428 (Review)]

Aluminum Wire and Cable From China

Determinations

On the basis of the record ¹ developed in the subject five-year reviews, the United States International Trade Commission (“Commission”) determines, pursuant to the Tariff Act of 1930 (“the Act”), that revocation of the countervailing and antidumping duty orders on aluminum wire and cable from China would be likely to lead to continuation or recurrence of material injury to an industry in the United States within a reasonably foreseeable time.

¹ The record is defined in § 207.2(f) of the Commission's Rules of Practice and Procedure (19 CFR 207.2(f)).

Background

The Commission instituted these reviews on November 1, 2024 (89 FR 87401) and determined on February 4, 2025, that it would conduct expedited reviews (90 FR 11181, March 4, 2025).

The Commission made these determinations pursuant to section 751(c) of the Act (19 U.S.C. 1675(c)). It completed and filed its determinations in these reviews on June 9, 2025. The views of the Commission are contained in USITC Publication 5635 (June 2025), entitled Aluminum Wire and Cable from China: Investigation Nos. 701-TA-611 and 731-TA-1428 (Review).

By order of the Commission.
Issued: June 9, 2025.
Lisa Barton,
Secretary to the Commission.

[FR Doc. 2025-10751 Filed 6-12-25; 8:45 am]

BILLING CODE 7020-02-P